DEPARTMENT OF EDUCATION

Office of Innovation and Improvement; Overview Information; High-Quality Supplemental Educational Services and After-School Partnerships Demonstration; Notice Inviting Applications for New Awards for Fiscal Year (FY) 2008.

Catalog of Federal Domestic Assistance (CFDA) Number: 84.287N.

DATES: Applications Available: July 7, 2008.

Deadline for Notice of Intent to Apply: July 21, 2008.

Deadline for Transmittal of Applications: August 12, 2008.

Deadline for Intergovernmental Review: September 15, 2008.

Full Text of Announcement

I. Funding Opportunity Description

Purpose of Program: The purpose of the High-Quality Supplemental Educational Services and After-School Partnerships Demonstration competition is to encourage the establishment or expansion of partnerships between supplemental educational services (SES) programs and 21st Century Community Learning Centers (21stCCLC) projects in order to increase the academic achievement of low-income students in Title I schools ¹ identified for improvement, corrective action, or restructuring. Through this competition, the Department will fund projects that will serve as national models of how these two federally authorized after-school initiatives can be coordinated so that a greater number of students enroll in, participate in, and complete academic after-school services that improve their achievement in reading and mathematics.

¹ A Title I school is a school that receives funds under Title I, Part A of the Elementary and Secondary Education Act of 1965, as amended.

SES programs, authorized under section 1116(e) of the Elementary and Secondary Education Act of 1965, as amended by the No Child Left Behind Act of 2001 (ESEA), provide free academic instruction to students from low-income families who attend a Title I school in the second year of improvement, in corrective action, or in restructuring. SES programs provide tutoring, remediation, and other research-based educational interventions that are consistent with the content and instruction used by the local educational agency (LEA) and aligned with the State's academic content standards.

The 21stCCLC program, authorized under Title IV, Part B of the ESEA, provides opportunities for communities to establish or expand activities in community learning centers that offer academic enrichment, including tutorial services, to help students, particularly students who attend low-performing schools, meet State and local academic achievement standards in core academic subjects. The program also provides a broad array of additional services and activities for students and their families that are designed to reinforce and complement the regular academic program of participating students. Centers can be located in elementary or secondary schools or other similarly accessible facilities.

Priorities: This competition has one absolute priority and two invitational priorities within the absolute priority.

Absolute Priority: This priority is an absolute priority. We are establishing this priority for the FY 2008 grant competition only, in accordance with section 437(d)(1) of the General Education Provisions Act (GEPA), 20 U.S.C. 1232(d)(1). Under 34 CFR 75.105(c)(3) we consider only applications that meet this priority.

This priority is:

High-Quality Supplemental Educational Services and After-School Partnerships Demonstration.

Background: Under the ESEA, students in low-performing Title I schools across the country may be eligible to participate in the 21stCCLC and SES programs. Both programs provide after-school services designed to help raise students' academic achievement.

Evidence indicates that participation in SES improves student academic achievement. A recent study by the RAND Corporation, supported by the U.S. Department of Education (Department), found that in five out of the seven large urban LEAs studied in which there were sufficient numbers of students to analyze the effects, students participating in SES showed statistically significant positive effects in both reading and mathematics achievement.² Additionally, a recent study of 35 quasi-experimental and experimental studies of after-school programs for at-risk youth found that after-school programs demonstrated positive effects on reading and mathematics achievement for students.³

² U.S. Department of Education, Office of Planning, Evaluation and Policy Development, Policy and Program Studies Service. (2007). State and Local Implementation of the No Child Left Behind Act, Volume I—Title I School Choice, Supplemental Educational Services, and Student Achievement, Washington, DC: Author.

³ Lauer, et al. (2006). “Out-of-School-Time Programs: A Meta-Analysis of Effects for At-Risk Students,” Review of Education Research, vol. 76 (pp. 275-313).

This priority will support innovative approaches to coordinating SES and 21stCCLC programs in order to increase and sustain students' participation in these programs and improve students' academic achievement. Through this priority, we will fund demonstration projects that coordinate the after-school academic and enrichment services of recipients of 21stCCLC local grants with the academic instruction of one or more State-approved SES providers, in an LEA that is identified by the State as in need of improvement or corrective action. The projects funded under this priority will develop strategies to coordinate the resources of the SES and 21stCCLC programs so that (1) greater numbers of students in the LEA enroll in and benefit from intensive, standards-based academic services, and (2) the projects will be sustained after the grant period ends.

We believe that coordinating the Federal investments in the SES and 21stCCLC programs has the potential to strengthen the quality and intensity of services available to students by leveraging the resources of the two programs and providing services that meet a wide range of academic and after-school needs of students and families.

Priority: To meet this priority, the proposed project must be designed to—

(1) Serve as a national model that provides innovative approaches to after-school services by coordinating the academic services offered by SES programs with the after-school services offered by 21stCCLC programs in a manner that is designed to result in significant gains in reading and mathematics achievement among low-income students who are at greatest risk of not meeting challenging State academic standards;

(2) Provide or coordinate intensive academic after-school services to students who attend a Title I school in the LEA that is in its second year of improvement, in corrective action, or in restructuring, under section 1116 of the ESEA.

(3) Increase the number of students in the LEA receiving academic after-school services designed to improve their academic achievement;

(4) Provide or coordinate academic after-school services that are consistent with the instructional program of the LEA served and aligned with the academic standards of the State in which the LEA is located; and

(5) Collect data on student eligibility, enrollment, and participation in the academic after-school services provided by the project, as well as pre- and post-intervention test data to assess the effectiveness of the project on improving the academic achievement of student participants.

The activities conducted by the proposed project to meet the requirements in paragraphs (1) through (5) of this priority can include, but are not limited to, the following: project planning, coordination, and administration; data collection, program evaluation, and information sharing among partners; and outreach services to parents and students.

Invitational Priorities: Within this absolute priority, we are particularly interested in applications that address one or both of the following invitational priorities. Under 34 CFR 75.105(c)(1) we do not give an application that meets these invitational priorities a competitive or absolute preference over other applications.

These priorities are:

(1) Academic After-School Services for High School Students.

Background: High school students are less likely to participate in SES and 21stCCLC programs than students in earlier grades. According to recent data, only one-third of LEAs required to offer SES to eligible high school students actually did so, compared to 90 percent and 96 percent of LEAs, respectively, required to offer SES to eligible elementary and middle school students.⁴ Similar difficulties exist in achieving high participation rates for high school students in the 21stCCLC program. Of the 1.4 million students served in 21stCCLC centers, less than 10 percent are high school students. Even though after-school opportunities are available for high school students at 21stCCLC centers, less than five percent of LEAs with after-school programs report that high school students take advantage of these programs.⁵

⁴ U.S. Department of Education, Office of Planning, Evaluation, and Policy Development, Policy and Program Studies Service, State and Local Implementation of the No Child Left Behind Act, Volume IV—Title I School Choice and Supplemental Educational Services: Interim Report, Washington, D.C., 2008.

⁵ Data come from the 21st CCLC Program and Performance Information Collection System Database.

Priority: To meet this priority, the proposed project must be designed to provide after-school services aimed at improving the academic achievement of high school students.

(2) Faith-Based and Other Community Organizations as SES Providers.

Background: Faith-based and other community organizations have had significant participation in SES and 21stCCLC programs since their inception, as State-approved SES providers, as partners in providing outreach to parents and improving student participation in SES programs, and as recipients of local 21stCCLC grants. These organizations are often integral and vital parts of a community and can serve as high-quality providers of academic services for students, in part because they offer an attractive after-school option to parents because of their local and familiar presence in a community.

Priority: To meet this priority, the applicant must include as a partner one or more SES providers that are faith-based or other community organizations.

Application Requirements: An application under this competition must include the following:

(1) A list of partner entities, including one or more State-approved SES providers that meet the eligibility requirements, that will assist the applicant in coordinating or providing services.

(2) A memorandum of understanding between the applicant and all partner entities that (i) describes the activities that each member of the group plans to carry out and (ii) binds each member of the group to every statement and assurance made by the applicant in the application, as set forth in 34 CFR 75.128(b).

(3) A comprehensive plan that describes the design of the proposed project.

(4) A description of—

(a) The resources that will be used for the proposed project;

(b) The applicant's plan for the management of the proposed project, including planning, implementation, and oversight; and

(c) The applicant's plan for the evaluation of the proposed project.

Applications that do not meet these requirements will not be read and will not be considered for funding.

Waiver of Proposed Rulemaking: Under the Administrative Procedure Act (5 U.S.C. 553), the Department generally offers interested parties the opportunity to comment on proposed rules or regulations governing a program. Section 437(d)(1) of GEPA, however, allows the Secretary to exempt from rulemaking requirements regulations governing the first grant competition under a new or substantially revised program authority. This is the first grant competition for this program under the national activities authority in section 4202(a)(2) of the ESEA and, therefore, the priorities, requirements, and selection criteria governing this competition qualify for this exemption. In order to ensure timely grant awards, the Secretary has decided to forgo public comment on the eligibility requirements, priorities, application requirements, and selection criteria applicable to this competition under section 437(d)(1) of GEPA. These eligibility requirements, priorities, application requirements, and selection criteria will apply to the FY 2008 grant competition only.

Program Authority:

Section 4202(a)(2) of the ESEA, 20 U.S.C. 7172(a)(2).

Applicable Regulations: The Education Department General Administrative Regulations (EDGAR) in 34 CFR parts 74, 75, 77, 79, 80, 81, 82, 84, 85, 86, 97, 98, and 99.

Note: The regulations in 34 CFR part 79 apply to all applicants except federally recognized Indian tribes.

Note: The regulations in 34 CFR part 86 apply to institutions of higher education only.

II. Award Information

Type of Award: Discretionary grants.

Estimated Available Funds: $5,000,000.

Estimated Range of Awards: $500,000-$1,300,000 for a three-year project period.

Estimated Average Size of Awards: $900,000 for a three-year project period.

Maximum Award: The maximum award amount is $1,300,000 for a three-year project period. We may choose not to consider an application with a budget request that exceeds this amount for any 36-month budget period if we conclude, during our initial review of the application, that the proposed goals and objectives cannot be obtained with the specified maximum amount.

Estimated Number of Awards: 4-6.

Note: The Department plans to fund projects entirely out of FY 2008 funds.

Note: The Department is not bound by any estimates in this notice.

Project Period: Up to 36 months.

Budget Period: Up to 36 months.

III. Eligibility Information

1. Eligible Applicants: Current recipients of 21stCCLC local grants that will provide services in the 2008-2009 school year and that (1) apply in partnership with one or more State-approved SES providers able to serve students in the grantee's LEA in the 2008-2009 school year, (2) serve students in an LEA that is identified by its State as in need of improvement or corrective action during the 2007-2008 or 2008-2009 school year, and (3) serve students enrolled in at least one Title I school identified as in need of improvement, corrective action, or restructuring during the 2007-2008 or 2008-2009 school years.

2. Cost Sharing or Matching: This program does not require cost sharing or matching.

IV. Application and Submission Information

1. Address to Request Application Package: Joan Scott-Ambrosio, U.S. Department of Education, 400 Maryland Avenue, SW., room 4W225, Washington, DC 20202-5970. Telephone: (202) 260-2715 or by e-mail: HQSESAfterschool@ed.gov.

If you use a telecommunications device for the deaf (TDD), call the Federal Relay Service (FRS), toll free, at 1-800-877-8339.

Individuals with disabilities can obtain a copy of the application package in an alternative format (e.g., Braille, large print, audiotape, or computer diskette) by contacting the program contact person listed in this section.

2. Content and Form of Application Submission: Requirements concerning the content of an application, together with the forms you must submit, are in the application package for this competition.

Notice of Intent to Apply: The Department will be able to develop a more efficient process for reviewing grant applications if it has a better understanding of the number of entities that intend to apply for funding under this competition. Therefore, the Secretary strongly encourages each potential applicant to notify the Department by sending a short e-mail message indicating the applicant's intent to submit an application for funding. The e-mail need not include information regarding the content of the proposed application, only the applicant's intent to submit it. This e-mail notification should be sent to HQSESAfterschool@ed.gov. Applicants that fail to provide this e-mail notification may still apply for funding.

Page Limit: The application narrative (Part III of the application) is where you, the applicant, address the selection criteria that reviewers use to evaluate your application.

You should limit the application narrative [Part III] to the equivalent of no more than 25 pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial. An application submitted in any other font (including Times Roman or Arial Narrow) will not be accepted.

The page limit does not apply to Part I, the cover sheet; Part II, the budget section, including the narrative budget justification; Part IV, the assurances and certifications; or the one-page abstract, the resumes, the bibliography, or the letters of support. However, the page limit does apply to all of the application narrative section [Part III].

3. Submission Dates and Times:

Applications Available: July 7, 2008.

Deadline for Notice of Intent to Apply: July 21, 2008.

Deadline for Transmittal of Applications: August 12, 2008.

Applications for grants under this competition must be submitted electronically using the Grants.gov Apply site (Grants.gov). For information (including dates and times) about how to submit your application electronically, or in paper format by mail or hand delivery if you qualify for an exception to the electronic submission requirement, please refer to section IV. 6. Other Submission Requirements in this notice.

We do not consider an application that does not comply with the deadline requirements.

Individuals with disabilities who need an accommodation or auxiliary aid in connection with the application process should contact the person listed under FOR FURTHER INFORMATION CONTACT in section VII in this notice. If the Department provides an accommodation or auxiliary aid to an individual with a disability in connection with the application process, the individual's application remains subject to all other requirements and limitations in this notice.

Deadline for Intergovernmental Review: September 15, 2008.

4. Intergovernmental Review: This program is subject to Executive Order 12372 and the regulations in 34 CFR part 79. Information about Intergovernmental Review of Federal Programs under Executive Order 12372 is in the application package for this competition.

5. Funding Restrictions: We reference regulations outlining funding restrictions in the Applicable Regulations section in this notice.

6. Other Submission Requirements: Applications for grants under this competition must be submitted electronically unless you qualify for an exception to this requirement in accordance with the instructions in this section.

a. Electronic Submission of Applications.

Applications for grants under the High-Quality Supplemental Educational Services and After-School Partnerships Demonstration competition, CFDA Number 84.287N, must be submitted electronically using the Governmentwide Grants.gov Apply site at http://www.Grants.gov. Through this site, you will be able to download a copy of the application package, complete it offline, and then upload and submit your application. You may not e-mail an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the High-Quality Supplemental Educational Services and After-School Partnerships Demonstration competition at http://www.Grants.gov. You must search for the downloadable application package for this competition by the CFDA number. Do not include the CFDA number's alpha suffix in your search (e.g., search for 84.287, not 84.287N).

Please note the following:

• When you enter the Grants.gov site, you will find information about submitting an application electronically through the site, as well as the hours of operation.

• Applications received by Grants.gov are date and time stamped. Your application must be fully uploaded and submitted and must be date and time stamped by the Grants.gov system no later than 4:30 p.m., Washington, DC time, on the application deadline date. Except as otherwise noted in this section, we will not accept your application if it is received—that is, date and time stamped by the Grants.gov system—later than 4:30 p.m., Washington, DC time, on the application deadline date. We do not consider an application that does not comply with the deadline requirements. When we retrieve your application from Grants.gov, we will notify you if we are rejecting your application because it was date and time stamped by the Grants.gov system after 4:30 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov at http://e-Grants.ed.gov/help/GrantsgovSubmissionProcedures.pdf.

• To submit your application via Grants.gov, you must complete all steps in the Grants.gov registration process (see http://www.grants.gov/applicants/get_registered.jsp). These steps include (1) registering your organization, a multi-part process that includes registration with the Central Contractor Registry (CCR); (2) registering yourself as an Authorized Organization Representative (AOR); and (3) getting authorized as an AOR by your organization. Details on these steps are outlined in the Grants.gov 3-Step Registration Guide (see http://www.grants.gov/section910/Grants.govRegistrationBrochure.pdf). You also must provide on your application the same D-U-N-S Number used with this registration. Please note that the registration process may take five or more business days to complete, and you must have completed all registration steps to allow you to submit successfully an application via Grants.gov. In addition you will need to update your CCR registration on an annual basis. This may take three or more business days to complete.

• You will not receive additional point value because you submit your application in electronic format, nor will we penalize you if you qualify for an exception to the electronic submission requirement, as described elsewhere in this section, and submit your application in paper format.

• You must submit all documents electronically, including all information you typically provide on the following forms: Application for Federal Assistance (SF 424), the Department of Education Supplemental Information for SF 424, Budget Information—Non-Construction Programs (ED 524), and all necessary assurances and certifications. Please note that two of these forms—the SF 424 and the Department of Education Supplemental Information for SF 424—have replaced the ED 424 (Application for Federal Education Assistance).

• You must attach any narrative sections of your application as files in a .DOC (document), .RTF (rich text), or .PDF (Portable Document) format. If you upload a file type other than the three file types specified in this paragraph or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by e-mail. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30 p.m., Washington, DC time, the following business day to enable you to transmit your application electronically or by hand delivery. You also may mail your application by following the mailing instructions described elsewhere in this notice.

If you submit an application after 4:30 p.m., Washington, DC time, on the application deadline date, please contact the person listed under FOR FURTHER INFORMATION CONTACT in section VII in this notice and provide an explanation of the technical problem you experienced with Grants.gov, along with the Grants.gov Support Desk Case Number. We will accept your application if we can confirm that a technical problem occurred with the Grants.gov system and that that problem affected your ability to submit your application by 4:30 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because—

• You do not have access to the Internet; or

• You do not have the capacity to upload large documents to the Grants.gov system; and

• No later than two weeks before the application deadline date (14 calendar days or, if the fourteenth calendar day before the application deadline date falls on a Federal holiday, the next business day following the Federal holiday), you mail or fax a written statement to the Department, explaining which of the two grounds for an exception prevent you from using the Internet to submit your application.

If you mail your written statement to the Department, it must be postmarked no later than two weeks before the application deadline date. If you fax your written statement to the Department, we must receive the faxed statement no later than two weeks before the application deadline date.

Address and mail or fax your statement to: Joan Scott-Ambrosio, U.S. Department of Education, 400 Maryland Avenue, SW., room 4W225, Washington, DC 20202-5970 Fax: (202) 205-5630.

Your paper application must be submitted in accordance with the mail or hand delivery instructions described in this notice.

b. Submission of Paper Applications by Mail.

If you qualify for an exception to the electronic submission requirement, you may mail (through the U.S. Postal Service or a commercial carrier) your application to the Department. You must mail the original and two copies of your application, on or before the application deadline date, to the Department at the applicable following address:

By mail through the U.S. Postal Service: U.S. Department of Education, Application Control Center, Attention: (CFDA Number 84.287N), 400 Maryland Avenue, SW., Washington, DC 20202-4260; or

By mail through a commercial carrier: U.S. Department of Education, Application Control Center, Stop 4260, Attention: (CFDA Number 84.287N), 7100 Old Landover Road, Landover, MD 20785-1506.

Regardless of which address you use, you must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you qualify for an exception to the electronic submission requirement, you (or a courier service) may deliver your paper application to the Department by hand. You must deliver the original and two copies of your application by hand, on or before the application deadline date, to the Department at the following address: U.S. Department of Education, Application Control Center, Attention: (CFDA Number 84.287N), 550 12th Street, SW., Room 7041, Potomac Center Plaza, Washington, DC 20202-4260.

The Application Control Center accepts hand deliveries daily between 8:00 a.m. and 4:30 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

Selection Criteria: We are establishing the following selection criteria, for the FY 2008 grant competition only, in accordance with section 437(d)(1) of GEPA, 20 U.S.C. 1232(d)(1). The maximum score for all of the selection criteria is 100 points. The maximum score for each criterion is indicated in parentheses with the criterion.

The criteria are as follows:

(1) Quality of the project design (up to 35 points).

(a) The Secretary considers the quality of the design of the proposed project.

(b) In determining the quality of the design of the proposed project, the Secretary considers the extent to which the proposed project consists of a comprehensive plan that includes a description of—

(i) The demonstrated need to be met, including the academic and after-school needs of the students, schools, and LEAs to be served;

(ii) The objectives and expected outcomes designed to address the need described under paragraph (b)(i) of this selection criterion; and

(iii) The after-school academic services to be provided or coordinated by the applicant and its partner entities, and the extent to which those services will meet the requirements of the absolute priority described in this notice.

(2) Adequacy of resources (up to 15 points).

(a) The Secretary considers the adequacy of resources for the proposed project.

(b) In determining the adequacy of resources for the proposed project, the Secretary considers the following factors:

(i) The adequacy of the instructional program to be provided to students, including the extent to which the program is intensive, research-based, consistent with the instructional program of the LEA served, and aligned with State academic standards.

(ii) The relevance and demonstrated commitment of each partner in the proposed project to the implementation and success of the project.

(iii) The extent to which costs are reasonable in relation to the number of persons to be served and services to be provided.

(3) Quality of the management plan (up to 25 points).

(a) The Secretary considers the quality of the management plan for the proposed project.

(b) In determining the quality of the management plan for the proposed project, the Secretary considers the following factors:

(i) The adequacy of the management plan to achieve the objectives of the proposed project on time and within budget, including clearly defined responsibilities, timelines, and milestones for accomplishing project tasks.

(ii) The adequacy of the management plan in explaining the planning, coordination, implementation, management, and oversight services that the applicant and its partner entities will provide or coordinate for the proposed project, including an explanation of the role of the 21stCCLC grantee, LEA, SES provider(s), school principals, teachers, other partner entities, parents, and members of the community in the proposed project.

(iii) The extent to which the time commitments of the project director and other key project personnel are appropriate and adequate to meet the objectives of the proposed project.

(4) Quality of the project evaluation (up to 25 points).

(a) The Secretary considers the quality of the evaluation to be conducted of the proposed project.

(b) In determining the quality of the evaluation, the Secretary considers the extent to which the proposed evaluation—

(i) Sets out methods of evaluation that include the use of objective performance measures that are clearly related to the intended outcomes of the project and will produce quantitative and qualitative data to the extent possible;

(ii) Will provide timely and valid information on the management, implementation, and effectiveness of the project;

(iii) Will provide guidance on or strategies for replicating or testing the project intervention in multiple settings; and

(iv) Meets the evaluation criteria specified in paragraph (5) of the absolute priority.

Note: A strong evaluation plan should be included in the application narrative and should be used, as appropriate, to shape the development of the project from the beginning of the project period. The plan should include benchmarks to monitor progress toward specific project objectives and also outcome measures to assess the impact on student participation and achievement, as well as other important outcomes for project participants. More specifically, the plan should identify the individual or organization that has agreed to serve as evaluator for the project and describe the qualifications of that evaluator.

The plan should describe the evaluation design, indicating: (1) What types of data will be collected; (2) when various types of data will be collected; (3) what methods will be used; (4) what instruments will be developed and when; (5) how the data will be analyzed; (6) when reports of results and outcomes will be available; and (7) how the applicant will use the information collected through the evaluation to monitor progress of the funded project and to provide accountability information both about success at the initial site and about effective strategies for replication in other settings. Applicants are encouraged to devote an appropriate level of resources to conduct an evaluation that meets the criteria of paragraph (5) of the absolute priority.

VI. Award Administration Information

1. Award Notices: If your application is successful, we notify your U.S. Representative and U.S. Senators and send you a Grant Award Notice (GAN). We may notify you informally, also.

If your application is not evaluated or not selected for funding, we notify you.

2. Administrative and National Policy Requirements: We identify administrative and national policy requirements in the application package and reference these and other requirements in the Applicable Regulations section in this notice.

We reference the regulations outlining the terms and conditions of an award in the Applicable Regulations section in this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to http://www.ed.gov/fund/grant/apply/appforms/appforms.html.

4. Performance Measures: The Secretary has established three performance indicators for this competition: (1) The number of eligible students who enroll in 21stCCLC and SES programs at grantee sites, (2) the number of enrolled students who complete full programs of service at grantee sites, and (3) the percentage of enrolled students, including the lowest achieving students, who improve their academic performance on their State assessments in reading or mathematics. All grantees will be required to submit an annual performance report documenting their contribution in assisting the Department in measuring the performance of the program against these performance indicators, as well as performance on project-specific indicators.

VII. Agency Contact

For Further Information Contact: Michelle Armstrong, U.S. Department of Education, 400 Maryland Avenue, SW., room 4W217, Washington, DC 20202-5970. Telephone: (202) 205-1729 or by e-mail: HQSESAfterschool@ed.gov. If you use a TDD, call the FRS, toll free, at 1-800-877-8339.

VIII. Other Information

Alternative Format: Individuals with disabilities can obtain this document and a copy of the application package in an alternative format (e.g., Braille, large print, audiotape, or computer diskette) on request to the program contact person listed under FOR FURTHER INFORMATION CONTACT in section VII in this notice.

Electronic Access to This Document: You can view this document, as well as all other documents of this Department published in the Federal Register, in text or Adobe Portable Document Format (PDF) on the Internet at the following site: http://www.ed.gov/news/fedregister.

To use PDF, you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: July 1, 2008.
Douglas B. Mesecar,
Assistant Deputy Secretary for Innovation and Improvement.

[FR Doc. E8-15363 Filed 7-3-08; 8:45 am]

BILLING CODE 4000-01-P